DEPARTMENT OF TRANSPORTATION

Federal Aviation Administration

Public Notice of Surplus Property Release; Spokane International Airport, Spokane, Washington

AGENCY: Federal Aviation Administration (FAA), Transportation (DOT).

ACTION: Notice of request to release surplus property.

SUMMARY: Notice is being given that the FAA is considering a request from the City of Spokane, Washington and the County of Spokane, Washington, to waive the surplus property requirements for approximately 2.9 acres of airport property located at Spokane International Airport, in Spokane, Washington. The subject property is located away from the aeronautical area and currently includes two existing city water reservoirs located in the southeast section of the business park. This release will allow the City and the County to sell a portion of 1 parcel of airport property to the City of Spokane and to construct an additional potable water reservoir. There will be proceeds generated from the proposed release of this property for capital improvements at the airport. The City and County will receive not less than fair market value for the property and the revenue generated from the sale will be used for airport purposes. It has been determined through study that the subject partial parcel will not be needed for aeronautical purposes.

DATES: Comments are due within 30 days of the date of the publication of this notice in the Federal Register. Emailed comments can be provided to Ms. Mandi M. Lesauis, Program Specialist, Seattle Airports District Office, mandi.lesauis@faa.gov.

FOR FURTHER INFORMATION CONTACT: Mandi M. Lesauis, Program Specialist, Seattle Airports District Office, mandi.lesauis@faa.gov, (206) 231-4140.

Issued in Des Moines, Washington on September 9, 2021.
Warren D. Ferrell,
Acting Manager, Seattle Airports District Office.

[FR Doc. 2021-19796 Filed 9-13-21; 8:45 am]

BILLING CODE 4910-13-P